DEPARTMENT OF ENERGY

Federal Energy Regulatory Commission

[Docket No. CP02-52-000]

Iroquois Gas Transmission System, L.P., Notice of Availability of the Draft Environmental Impact Statement for the Proposed Eastern Long Island Extension Project

August 23, 2002.

The staff of the Federal Energy Regulatory Commission (FERC or Commission) has prepared a Draft Environmental Impact Statement (DEIS) on the natural gas pipeline facilities proposed by Iroquois Gas Transmission System, L.P. (Iroquois) in the above-referenced docket.

The DEIS was prepared to satisfy the requirements of the National Environmental Policy Act. The staff concludes that approval of the proposed project with the appropriate mitigating measures as recommended, would have limited adverse environmental impact. The DEIS also evaluates alternatives to the proposal, including system alternatives; major route alternatives; and route variations, and requests comments on them.

The DEIS addresses the potential environmental effects of the construction and operation of the following facilities:

• 29.1 miles of 20-inch-diameter pipeline in New Haven County, Connecticut, and Suffolk County, New York;

• a new meter station along the proposed ELI pipeline at about milepost (MP) 29.1;

• ancillary facilities including a marine tap interconnection and facilities for the attachment of a pig launcher in Long Island Sound in Connecticut state waters; three mainline valves (MPs 17.5, 22.7, and 29.1), and one pig receiving facility housed within the meter station layout at the project terminus at MP 29.1;

• a new 20,000 horsepower compressor station at Iroquois' existing mainline valve site in Milford, Fairfield County, Connecticut;

• new piping, compressor and piping modifications, and ancillary facilities to accept natural gas from the Algonquin Gas Transmission (AGT) Company's AGT System at a proposed new Iroquois compressor station in Brookfield, Fairfield County, Connecticut (note: Iroquois is currently pursuing a separate FERC Certificate for the compressor station under Docket No. CP02-31-000);

• a discharge gas cooler to be added to the proposed new compressor station in Dover, Duchess County, New York (note: Iroquois received a separate FERC Certificate for the compressor station under Docket Nos. CP00-232-000 and -001, but has not built this facility yet); and

• temporary pipe and storage yards, staging areas, access roads, etc., to be used only during construction of the proposed facilities.

The purpose of the proposed facilities would be to transport about 175,000 dekatherms per day of firm transportation service to expanding markets on Long Island, New York.

Comment Procedures and Public Meeting

Any person wishing to comment on the DEIS may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A,

Washington, DC 20426;

• Label one copy of the comments for the attention of Gas Branch 2, PJ11.2

• Reference Docket No. CP02-52-000; and

• Mail your comments so that they will be received in Washington, DC on or before October 18, 2002.

Please note that we are continuing to experience delays in mail deliveries from the U.S. Postal Service. As a result, we will include all comments that we receive within a reasonable time frame in our environmental analysis of this project. Also, the Commission encourages electronic filing of any comments or interventions or protests to this proceeding. See 18 CFR 385.2001(a)(1)(iii) and the instructions on the Commission's web site at http://www.ferc.gov under the “e-Filing” link and the link to the User's Guide. Before you can file comments you will need to create a free account which can be created by clicking on “Login to File” and then “New User Account.” For assistance with e-filing, the e-filing helpline can be reached at (202) 502-8258.

We will announce in a future notice, the location and time of at least one local public meeting to receive comments on the DEIS.

After these comments are reviewed, any significant new issues are investigated, and modifications are made to the DEIS, a Final Environmental Impact Statement (FEIS) will be published and distributed by the staff. The FEIS will contain the staff's responses to timely comments filed on the DEIS.

Comments will be considered by the Commission but will not serve to make the commentor a party to the proceeding. Any person seeking to become a party to the proceeding must file a motion to intervene pursuant to Rule 214 of the Commission's Rules of Practice and Procedures (18 CFR 385.214).

Anyone may intervene in this proceeding based on this DEIS. You must file your request to intervene as specified above.¹ You do not need intervenor status to have your comments considered.

¹ Interventions may also be filed electronically via the Internet in lieu of paper. See the previous discussion on filing comments electronically.

The DEIS has been placed in the public files of the FERC and is available for distribution and public inspection at: Federal Energy Regulatory Commission, Public Reference and Files Maintenance Branch, 888 First Street, NE., Room 2A, Washington, DC 20426, (202) 502-8371.

A limited number of copies are available from the Public Reference and Files Maintenance Branch identified above. In addition, copies of the DEIS have been mailed to Federal, State and local agencies, public interest groups, individuals who have requested the DEIS, newspapers, and parties to this proceeding.

Additional information about the proposed project is available from the Commission's Office of External Affairs, at 1-866-208-FERC (3372) or on the FERC Internet website (www.ferc.gov) using the “FERRIS” link to information in this docket number.² Click on the FERRIS link, then click on “General Search”, and then enter the docket number in the Docket Number field. Be sure you have selected an appropriate date range. For assistance with FERRIS, the FERRIS helpline can be reached at (202) 502-8222, TTY (202) 208-1659. The FERRIS link on the FERC Internet website also provides access to the texts of formal documents issued by the Commission, such as orders, notices, and rulemakings.

² On October 11, 2001, the Commission announced that, as the result of the September 11 terrorist attacks, the FERC would limit access to certain public documents (PL01-2-000). Documents containing specific information on energy facilities would not be available through its web site or on its public reference room. Individuals requiring such information are directed to file Freedom of Information Act (FOIA) requests.

Linwood A. Watson, Jr.,
Deputy Secretary.

[FR Doc. 02-22040 Filed 8-28-02; 8:45 am]

BILLING CODE 6717-01-P